DEPARTMENT OF JUSTICE

Antitrust Division

Notice Pursuant to the National Cooperative Research and Production Act of 1993—Medical Technology Enterprise Consortium

Notice is hereby given that, on June 23, 2017, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Appili Theraputics, Inc., Halifax, Nova Scotia, CANADA; BioTime, Inc., Alameda, CA; Chenega Healthcare Services, LLC, San Antonio, TX; Critical Innovations LLC, Venice, CA; Embody LLC, Norfolk, VA; Kansas State University, Manhattan, KS; NovaHep AB, Gothenburg, SWEDEN; Pulmotect, Inc., Houston, TX; QBiotics Limited, Taringa, Queensland, AUSTRALIA; SIMETRI, Inc., Winter Park, FL; SpherIngenics, Inc., Richmond, VA; Spherium Biomed SL, Barcelona, SPAIN; Techulon, Inc., Blacksburg, VA; The Trustees of Columbia University in the City of New York, New York, NY; The University of Texas Health Science Center at Houston, Houston, TX; UT Health San Antonio, San Antonio, TX; and Vapogenix, Inc., Houston, TX, have been added as parties to this venture.

Also, MedPro Technologies, Inc., San Antonio, TX; MetArmor, Inc., Glen Gardner, NJ; Michigan Technological University, Houghton, MI; and Organovo, Inc., San Diego, CA, have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on April 19, 2017. A notice was published in the Federal Register pursuant to Section 6(b) of the Act on May 12, 2017 (82 FR 22159).

Patricia A. Brink,
Director of Civil Enforcement, Antitrust Division.

[FR Doc. 2017-17161 Filed 8-14-17; 8:45 am]

BILLING CODE P